ENVIRONMENTAL PROTECTION AGENCY

[FRL-6949-2]

Agency Information Collection Activities: Proposed Collection; Comment Request; Clean Air Act Tribal Authority

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Clean Air Act Tribal Authority, EPA ICR Number 1676.02, and OMB Control No. 2060-0306, expiring 05/31/01. Before submitting the ICR to OMB for review and approval, EPA is soliciting comments on specific aspects of the proposed information collection as described below.

DATES: Comments must be submitted on or before May 7, 2001.

ADDRESSES: Office of Air and Radiation, Ariel Rios Building, 1200 Pennsylvania Ave., NW., Mail Code 6101-A, Washington, DC 20460. Interested persons may request a copy of the ICR without charge from the contact person below.

FOR FURTHER INFORMATION CONTACT: Tony Bynum, tel.: (202) 564-1389; fax: (202) 564-2057; e-mail: bynum.tony@epa.gov.

SUPPLEMENTARY INFORMATION: Affected entities: Entities potentially affected by this action are those which request Clean Air Act Tribal Authority.

Title: Clean Air Act Tribal Authority (OMB Control No. 2060-0306; EPA ICR No.1676.02) expiring 05/31/01, renewal.

Abstract: This ICR requests clearance of EPA's review and approval process for determining Tribal eligibility to carry out the Clean Air Act (CAA). Tribes may choose to submit a CAA eligibility determination and a CAA program application to EPA at the same time for approval and EPA will review both submittals simultaneously. EPA will use this information to determine if a Tribe meets the statutory criteria under section 301(d) of the CAA and is qualified for purposes of implementing an Air Quality Program. Section 114 of the CAA is the authority for the collection of information.

An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The annual public reporting and record keeping burden for this collection of information is estimated to average 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 22, 2001.
Robert D. Brenner,
Acting Assistant Administrator, Office of Air and Radiation.

[FR Doc. 01-5570 Filed 3-6-01; 8:45 am]

BILLING CODE 6560-50-P